DEPARTMENT OF THE INTERIOR

Fish and Wildlife Service

[Docket No. FWS-R4-ES-2025-0869; FXES11140400000-267-FF04EA4000]

Receipt of Two Incidental Take Permit Applications for Participation in the General Conservation Plan for the Alabama Beach Mouse; Categorical Exclusion; Baldwin County, Alabama

AGENCY: Fish and Wildlife Service, Interior.

ACTION: Notice of availability; request for comments.

SUMMARY: We, the Fish and Wildlife Service (Service), announce receipt of two separate incidental take permit (ITP) applications under the Endangered Species Act (ESA): One from Sean and Dawn Carmichael and the other from John O'Connor (applicant/applicants), under the approved general conservation plan (GCP) and final environmental impact statement (FEIS) for the Alabama beach mouse (ABM; Peromyscus polionotus ammobates). Each applicant requests an ITP to take the federally listed ABM incidental to construction in Baldwin County, Alabama. We request public comment on these applications, which include the applicants' proposed habitat conservation plan (HCP), and on the Service's preliminary determination that the proposed permitting action qualifies under the terms of the ABM GCP.

DATES: We must receive your written comments on or before January 8, 2026.

ADDRESSES:

Obtaining Documents: The documents this notice announces, as well as any comments and other materials that we receive, will be available for public inspection online in Docket No. FWS-R4-ES-2025-0869 at https://www.regulations.gov.

Submitting Comments: If you wish to submit comments on any of the documents, you may do so in writing by one of the following methods:

• Online: https://www.regulations.gov. Follow the instructions for submitting comments on Docket No. FWS-R4-ES-2025-0869.

• U.S. Mail: Public Comments Processing, Attn: Docket No. FWS-R4-ES-2025-0869; U.S. Fish and Wildlife Service, MS: PRB/3W, 5275 Leesburg Pike, Falls Church, VA 22041-3803.

FOR FURTHER INFORMATION CONTACT: William Lynn, by U.S. mail (see ADDRESSES), by telephone at 1-251-538-2065, or via email at william_lynn@fws.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service (Service), announce receipt of applications, under the approved GCP for the ABM (Peromyscus polionotus ammobates) from Sean and Dawn Carmichael and from John O'Connor for two separate ITP's, also known as a section 10(a)(1)(B) permit, under the Endangered Species Act, as amended (ESA; 16 U.S.C. 1531 et seq.). The ABM GCP was approved March 28, 2012. An environmental impact statement and record of decision for the GCP was approved at the same time.

A GCP is a mechanism that meets the definition of a conservation plan in section 10(a)(1)(B) of the ESA and enables the construct of a programmatic permitting and conservation process to address a defined suite of proposed activities over a defined planning area.

We certify that each application is statutorily complete and includes the necessary information to enroll in the GCP. We have no evidence that the applicant would be disqualified pursuant to 50 CFR 13.21.

Each applicant requests an ITP to take ABM, incidental to construction in Baldwin County, Alabama. We request comment from the public and local, State, Tribal, and Federal agencies on each application, which includes the applicants' HCPs, and on the Service's preliminary determination that the proposed ITP qualifies under the ABM GCP and FEIS published on March 28, 2012 (FWS-R4-ES-2012-N063).

Proposed Projects

Permit Number: PER20920242

Sean and Dawn Carmichael, applicant, requests a 50-year ITP to take ABM via the conversion of 0.123 acres (ac) of occupied nesting, foraging, and sheltering ABM habitat incidental to the construction of a single-family home with a pool on a 0.878 ac parcel located at 2120 West Beach Boulevard in Gulf Shores, Alabama. The applicant proposes to mitigate for the take of ABM through an in-lieu fee of $12,279.70 to the Alabama Coastal Heritage Trust's ABM conservation fund.

Permit Number: PER19412055

John O'Connor, applicant, requests a 50-year ITP to take ABM via the conversion of approximately 0.080 ac of occupied nesting, foraging, and sheltering ABM habitat via the tear down, enlargement, and reconstruction of a single-family home on a 0.670 ac lot. The parcel is located at 2116 Ponce de Leon Court in Gulf Shores, Alabama. The applicant proposes to mitigate for the take of ABM through an in-lieu fee of $8,047.70 to the Alabama Coastal Heritage Trust's ABM conservation fund.

Our Preliminary Determination

The Service has made a preliminary determination that reasonably foreseeable effects of the applicants' proposed projects, including the construction of the residential development and associated infrastructure (e.g., electric, water, sewer lines, and driveways), would individually and cumulatively have a minor effect on ABM and the human environment. Reasonably foreseeable effects encompass effects of implementation of the action along with other past, present, and reasonably foreseeable future effects. Therefore, we have the made a preliminary determination that each proposed ESA section 10(a)(1)(B) permit would meet the requirements of the GCP and FEIS.

Next Steps

The Service will evaluate each application and any comments received as a result of this notice to determine whether to issue the requested ITP. We will also conduct an intra-Service consultation pursuant to section 7 of the ESA to evaluate the effects of the proposed take. After considering the preceding and other matters, we will determine whether the permit issuance criteria of section 10(a)(1)(B) of the ESA have been met. If met, the Service will issue ITP number PER20920242 to Sean and Dawn Carmichael and PER19412055 to John O'Connor.

Public Availability of Comments

Before including your address, phone number, email address, or other personal identifying information in your comment, be aware that your entire comment, including your personal identifying information, may be made available to the public. If you submit a comment at https://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses and from individuals identifying themselves as representatives or officials of organizations or businesses will be made available for public disclosure in their entirety.

Authority

The U.S. Fish and Wildlife Service provides this notice under ESA section 10(c) and its implementing regulations (50 CFR 17.32), the National Environmental Policy Act (42 U.S.C. 4321 et seq.), and the Department of Interior's implementing regulations (43 CFR part 46).

William Pearson,
Field Supervisor, Alabama Ecological Service Field Office.

[FR Doc. 2025-22349 Filed 12-8-25; 8:45 am]

BILLING CODE 4333-15-P